SURFACE TRANSPORTATION BOARD

[Docket No. AB 303 (Sub-No. 50X)]

Wisconsin Central Ltd.—Discontinuance of Service Exemption—in Ashland and Price Counties, Wis.

Wisconsin Central Ltd. (WCL) has filed a verified notice of exemption under 49 CFR pt. 1152 subpart F—Exempt Abandonments and Discontinuances of Service to discontinue service over a portion of WCL's Ashland Subdivision extending approximately 58.4 miles from milepost 434.4 in the city of Ashland, Ashland County, Wis., to milepost 376.0 near Park Falls, Price County, Wis. (the Line). The Line traverses United States Postal Service Zip Codes 54806, 54855, 54846, 54546, 54527, 54514, and 54552.

WCL has certified that: (1) No local traffic has moved over the Line for at least two years; (2) there is no overhead traffic to be rerouted over other lines; (3) no formal complaint filed by a user of a rail service on the Line (or by a state or local government entity acting on behalf of such user) regarding cessation of service over the Line is either pending with the Surface Transportation Board (Board) or with any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ¹ to subsidize continued rail service has been received, this exemption will be effective on November 17, 2018, unless stayed pending reconsideration. Formal expressions of intent to file an OFA to subsidize continued rail service under 49 CFR 1152.27(c)(2) ² must be filed by October 26, 2018. Petitions to stay that do not involve environmental issues must be filed by October 29, 2018.³ Petitions for reconsideration must be filed by November 7, 2018, with the Surface Transportation Board, 395 E Street SW, Washington, DC 20423-0001.

¹ The Board modified its OFA procedures effective July 29, 2017. Among other things, the OFA process now requires potential offerors, in their formal expression of intent, to make a preliminary financial responsibility showing based on a calculation using information contained in the carrier's filing and publicly available information. See Offers of Financial Assistance, EP 729 (STB served June 29, 2017); 82 FR 30 997 (July 5, 2017).

² Each OFA must be accompanied by the filing fee, which currently is set at $1,800. See 49 CFR 1002.2(f)(25).

³ Because this is a discontinuance proceeding and not an abandonment, trail use/rail banking and public use conditions are not appropriate. Because there will be an environmental review during abandonment, this discontinuance does not require environmental review.

A copy of any petition filed with Board should be sent to WCL's representative, Bradon J. Smith, Fletcher & Sippel LLC, 29 North Wacker Drive, Suite 800, Chicago, IL 60606.

If the verified notice contains false or misleading information, the exemption is void ab initio.

Board decisions and notices are available on our website at www.stb.gov.

Decided: October 15, 2018.
By the Board, Scott M. Zimmerman, Acting Director, Office of Proceedings.
Brendetta Jones,
Clearance Clerk.

[FR Doc. 2018-22739 Filed 10-17-18; 8:45 am]

BILLING CODE 4915-01-P